NATIONAL INSTITUTE FOR LITERACY

[CFDA No. 84.257S]

NIFL Content Development Partners (Special Collections); Notice Inviting Applications for New Awards for Fiscal Year 2000

AGENCY: The National Institute for Literacy (NIFL).

ACTION: Notice.

Purpose

The purpose of this project is to establish a first generation of Content Development Partners to extend the work of the Literacy Information aNd Communication System (LINCS) in developing subject oriented Special Collections of Internet-based resources for adult education and adult and family literacy practice. The Content Development Partners will maintain, refine, and enhance the existing Special Collections available through the LINCS network by locating, evaluating, and organizing Web-based resources and Web-based pointers to other materials (videos, research reports, etc.). These partners will work in collaboration with the National LINCS staff and the staff at the LINCS Regional Technology Centers. Content Development Partners will be expected to follow National LINCS guidelines, protocols, and common design templates. (See Background and Definitions: NIFL Standards.)

Eligible Applicants

Public and private nonprofit organizations with knowledge of and expertise in adult literacy and the subject matter of the Special Collection, or consortia of such organizations.

Deadline for Applications: July 15, 2000.

Estimated Range of Awards

$20,000-$50,000 for year 1; funding for years 2 and 3 is subject to program authorization and availability of appropriations, and is contingent upon satisfactory completion of the previous year's plan of action.

Estimated Number of Awards

Up to 10 awards. Awards will be made to organizations with experience in the defined subject areas. Consortia efforts are encouraged. No more than two Content Development Partner awards will be made to the same applicant.

Note: The National Institute for Literacy is not bound by any estimates in this notice.

Project Period

Three years, with the possibility of renewal for 2 subsequent years.

Applicable Regulations

The National Institute for Literacy has adopted the following regulations included in the Education Department General Administrative Regulations (EDGAR): 34 CFR parts 74, 77, 80, 82, and 85, and 34 CFR part 75, Secs. 75.50, 75.51, 75.100-102, 75.104, 75.109-192, 75.200-201, 75.215-217, 75.231-236, 75.250-251, 75.253, 75.261, 75.525, 75.531, 75.560-569, 75.591, 75.620-21, 75.700-707; 75.77, 75.79, 75.80-82, 75.85-86(6/6/1997 and EDGAR Expanded Authorities, 1/27/98).

This document is available through your public library and the National Institute for Literacy's Website (http://www.nifl.gov). It is recommended that appropriate administrative officials become familiar with the EDGAR policies and procedures that are applicable to this award.

FOR FURTHER INFORMATION, CONTACT: William Hawk; National Institute for Literacy; 1775 I Street, NW., Suite 730; Washington, DC 20006; Telephone: 202-233-2042; FAX: 202-233-2050; E-mail: whawk@nifl.gov Information about the NIFL's funding opportunities, including Application Notices, etc., can be viewed on the NIFL server (under What's New and Grants & Funding) at http://www.nifl.gov/lincs; however, the official application notice for a discretionary grant competition is the notice published in the Federal Register.

SUPPLEMENTARY INFORMATION:

Definitions

For purposes of this announcement the following definitions apply:

Adult Education and Literacy Community—The aggregate of individuals and groups at all levels nationwide that are actively involved with adult education and adult and family literacy instruction, including individuals such as researchers, practitioners, policymakers, adult learners, and administrators, and groups such as state and local departments of education, human services, and labor; libraries; community-based organizations; businesses and labor unions; and volunteer and civic groups.

Content Development Partners—LINCS partners responsible for maintaining, refining, and enhancing the Special Collections of Web-accessible resources available through the LINCS network. These partners locate, evaluate, and organize Web-based resources and Web-based pointers to other materials (videos, research reports, etc.).

Core Knowledge Group—An Advisory Group of subject experts to assist in the quality control of the collection. Ideally, this group will include NIFL Discussion List moderators, researchers, and subject specialists from the Department of Education's Office of Vocational and Adult Education (OVAE), among others.

LINCS Affiliates—National, state, or local organizations that support LINCS and want to be a part of the expanding LINCS network, but are not considered partners.

LINCS Network—Including LINCS national, regional, state and local partners and affiliates.

LINCS Partners—State level organizations that provide professional development, technical assistance, and other informational services to local programs. There may be more than one state-level partners depending on the needs of the state and the resources available. Decisions about the selection of the LINCS partner will be made jointly with the state adult education office and other state-level organizations. Through a formal agreement with the Regional LINCS organization, state organizations will receive services and contribute to LINCS.

LINCS Standards—NIFL's quality guidelines and standards for organizing materials in a uniform format for posting on the Internet. These standards are found in NIFL's “Starting Point” manual, LINCS Selection Criteria (http://www.nifl.gov/lincs/selection_criteria.html), LINCS Special Collections Guidelines (http://www.nifl.gov/lincs/special_collections.html), the Adult Literacy Thesaurus (ALT), the Adult Literacy Thesaurus User's Manual, the template for state and local program Websites (http://hub2.coe.utk.edu/adopt/default.html) and other documentation.

LINCS Web Sites—Include LINCS national, regional, and state sites and Special Collections.

Literacy—An individual's ability to read, write, and speak in English, and compute and solve problems at levels of proficiency necessary to function on the job and in society, to achieve one's goals and develop one's knowledge and potential (as stated in the National Literacy Act of 1991).

Regional Hub or Regional Technology Center—The lead site acting as the focal point for implementing LINCS grants requirements and activities, including serving states and local programs in a particular region.

Special Collections—One-stop electronic gateways to high-quality resources related to specific subject areas judged to be of high interest to the adult education and literacy community. Resources include Web-based resources and resources in other media, including descriptions of research and evaluation results, policy-related information, curricula, best practices, fact sheets, and directories. LINCS Special Collections are built around specific content areas (such as English as a Second Language), specific settings or contexts (such as Workforce Education), and professional development topics (such as the use of Technology in Professional Development).

Background

The National Institute for Literacy (NIFL), as authorized by Title II of the Workforce Investment Act of 1998, has the legislative mandate to develop a national literacy database. The intent of this mandate is to assure the consolidation and accessibility of scattered and hard-to-access information resources for literacy. For more background information on the LINCS Network, visit http://www.nifl.gov/lincs/about/about.html#history.

Now in its fifth full year of operation, LINCS is steadily pursuing its mission of using technology to strengthen the adult basic education and literacy community. Beginning in mid-1994 with a single national site on the Internet, LINCS is now well on its way to fulfilling its goals. Visit http://www.nifl.gov/lincs/millennium/achievements.html for a summary of the national and regional LINCS achievements.

Plans for the Future

Over the past seven years, the NIFL has provided the leadership and tools to prepare the adult literacy community for the 21st century through major system-building initiatives, including the creation of LINCS and its regional hubs. The NIFL intends to sustain the momentum of building systems that help professionalize the adult literacy community by continuing its initiatives in technology. Please see the LINCS Vision Statement at http://www.nifl.gov/lincs/millennium/vision.html for additional information about the future plans for the LINCS project.

Application Requirements

A. Overview of Content Development Partners (Special Collections)

Grants will be awarded to up to ten Content Development Partners for the development of Special Collections on the following subjects—as defined by LINCS and/or in the Adult Literacy Thesaurus:

1. Assessment;

2. Correctional Education;

3. English as a Second Language (inclusive of citizenship and civic participation);

4. Family Literacy;

5. Health and Literacy;

6. International Literacy;

7. Literacy & Learning Disabilities;

8. Science & Numeracy;

9. Technology Training (for Professional Development); and

10. Workforce Education.

The focus of each Special Collection must be on the subject as it relates to adult literacy instruction, learning, policy, or other dimensions of the practice of adult and family literacy and adult education. Applicants must clearly identify the subject area of the Special Collections(s) they are proposing to be the Content Development Partners for. The existing LINCS Special Collections can be accessed through the index page— http://www.nifl.gov/lincs/collections/.

B. Project Narrative

The project narrative is critical and must thoroughly reflect the capacity of the applicant to organize the development of a Special Collection. The narrative must encompass the full three years of project activities, with detailed plans for Year 1 and milestones for Years 2 and 3. The narrative must clearly describe the applicant's plan for attaining measurable goals as identified in each of the sections listed below and propose specific mechanisms for collecting and developing resources for the Special Collection. The narrative should not exceed ten (10) single-spaced pages, or twenty (20) double-spaced pages. The narrative may be amplified by material in attachments and appendices (not exceeding 10 pages), but the body should stand alone to give a complete picture of the project. Proposals that exceed 10 single-spaced pages or 20 double-spaced pages will not be reviewed. The format for the project narrative should follow the order and format of the following selection criteria.

C. Selection Criteria

In evaluating applications for a grant under this competition, the Director uses the following seven selection criteria set out in this notice. The maximum combined score for all the criteria in this section is 100 points. The maximum score for each criterion is indicated in parentheses.

1. Mission and Strategy (5 Points)

The Director reviews each application to determine the appropriateness of the applicant's stated mission and strategy for the proposed Content Development Partner, including consideration of: (a) The degree to which the stated mission and strategy for developing a Special Collection reflect an understanding of NIFL's goals and purposes for LINCS and the Special Collections as outlined in this notice; (b) The degree to which the application demonstrates an understanding of the Special Collection's scope and the existing special collection's strengths and weaknesses (where applicable); (c) The quality and coherence of proposed strategies for refining, enhancing, and maintaining the existing collection to meet the field's need for information; and (d) How the project will serve (and be marketed to) the entire adult education and literacy community, including the full range of public and private programs (libraries, local education agencies, community colleges, volunteer and community-based organizations, etc.).

2. Institutional Capabilities (15 Points)

The Director reviews each application to determine the capabilities of the organization to sustain a long-term, high quality, and coherent program, including consideration of: (a) The organization's expertise in the chosen subject area and its familiarity with the information needs of the Adult and Family Literacy and Adult Education Community around this topic; (b) The applicant's experience in establishing and carrying out collaborative working relationships with LINCS member states, state agencies, local programs, and other public and private groups; (c) The applicant's capacity to maintain and continuously enhance a sizable literacy collection on the Internet that includes resources produced by other agencies and individuals as well as the organization's own resources; (d) The applicant's use of technology to enhance accessibility of information; (e) The applicant's capacity to provide training and technical assistance to users of the collection(s); (f) A secure funding base for the organization for the duration of the project; (g) The applicant's willingness and ability to continue the project at the end of the three-year grant period; and (h) The applicant's ability to leverage other funding and resources to sustain the project beyond the grant through pursuing partnerships with private entities, including telecommunications and high tech business and industry partners.

3. Core Knowledge Group and Collaborations (20 Points)

The Director reviews each application to determine the capabilities of the organization to sustain a long-term, high quality, and coherent program, including consideration of: (a)The applicant's plans for organizing and managing a Core Knowledge Group to advise the development of the Special Collection and assist in the quality control of the collection; please provide names of expected or confirmed members of the group; (b) The extent to which the applicant will consider the perspectives of a variety of users and stakeholders in developing the Special Collection; (c) The applicant's ability to ensure close collaboration with NIFL and the LINCS Regional Technology Centers, including cooperation in implementing new requirements or standards developed by NIFL in concert with the LINCS Regional Technology Centers to assure uniformity across the LINCS network; (d) The applicant's plans to ensure broad-based collaborative relationships with other appropriate agencies, organizations, and projects (especially those dealing with education, labor, and human services and the topics of each Special Collection) with similar or complementary subject expertise; (e) Mechanisms for attracting/collecting or developing additional resources for inclusion in the Special Collections (see the LINCS Special Collections Guidelines and Recommendations available at http://www.nifl.gov/lincs/special_collections.html and the LINCS Special Collections Protocol available at http://www.nifl.gov/2000_rfp/collections_protocol.html); and (f)The extent to which the applicant demonstrates a commitment to provide a minimum of 2 training sessions per year and collect direct user feedback at those times.

4. Quality of Plan of Operation (30 Points)

The Director reviews each application to determine the quality of the three-year plan of operation, including consideration of: (a) The quality of the design of the project and plans for collecting high quality resources, instructional materials, and tools; (b) How well the objectives of the project relate to the intended purposes of the Special Collections, as outlined in this request for applications; (c) The quality of the applicant's three-year plan of operation to use its resources and personnel to achieve each project objective; (d) The extent to which the plan of management is effective and ensures proper and efficient administration of the project; (e)The quality of the plan to establish effective working relationships with the members of the Core Knowledge Group and other organizations as required for effective development of the project; (f) The quality of the plan for determining the information needs of the customers or users of the Special Collection; (g) The quality of the plan for developing unique selection criteria and guidelines specific to each Special Collection based on the LINCS general selection criteria and Special Collections protocols (http://www.nifl.gov/lincs/selection_criteria.html and http://www.nifl.gov/lincs/2000_rfp/collections_protocol.html); (h) The quality of the plan for organizing the Special Collection according to the NIFL standards for quality control, access, and organization (see LINCS Special Collections Guidelines and Recommendations http://www.nifl.gov/lincs/special_collections.html) and for working with NIFL and the LINCS Regional Technology Centers to ensure uniformity across the network; (i) The quality of the plan for enhancing the knowledge base of the field by updating the Special Collection on a regularly scheduled basis with the Content Development Partner's own materials and materials from other content developers, including making provisions for including summaries of or pointers to quality print and non-print materials, such as audio and video materials, in their entirety, as well as Web-based materials print and non-print materials, all of which respond to end users' educational, informational, and training needs; (j) The quality of the plan for marketing the Special Collection, training users, and leveraging additional resources for the project; (k) The extent of the application's understanding of cataloging form and LINCS infrastructure; and (l) The extent to which the applicant's plan includes sound methods for achieving measurable goals and outcomes.

5. Budget and Cost Effectiveness (10 Points)

The Director reviews each application to determine the extent to which: (a) The budget is adequate to support project activities and allocations are deemed cost-effective; (b) Costs are reasonable in relation to the objectives of the project; (c) The budgets for any subcontracts are detailed and appropriate; (d) Provisions are made for identifying and securing additional funds to continue and expand the project beyond the end of the grant; (e) The applicant's inclusion of a timeline for the project, consisting of a table or diagram listing major tasks or milestones and including estimates of funds, time (including presentations), personnel, facilities, and equipment allocated to each program area, as well as the timing of quarterly progress and other reports, meetings, etc. (A format of approximately 2 pages will be provided for quarterly reports; a final report will be expected at the end of each year in lieu of a 4th quarter report.); and (f) The budget details resources, cash and in-kind, that the applicant and others will provide to the project in addition to grant funds. Please note that overhead for this project is restricted as per EDGAR CPR 75-562.

6. Quality of Monitoring and Evaluation Plan (10 Points)

The Director reviews each application to determine the quality of the evaluation plan for the project, including consideration of the NIFL's adherence to Federal Government Performance Reporting Act (GPRA) requirements (See the Notice to Applicants at http://ocfo.ed.gov/grntinfo/gposbul/gpos23.htm for more information.) and: (a) The strength of the applicant's statement of measurable outcomes for all project goals; (b) The quality of methods and mechanisms to be used to document and evaluate progress in relation to the project's mission and goals; (c) The quality of methods that will be used to document and evaluate the impact—both quality of usefulness and quantity of use—of the project on target audiences; and (d) The effectiveness of the Content Development Partner's role in working with partners, particularly by using on-line methods (such as web tools) to collect and analyze data on the effectiveness of the resources presented.

7. Quality of Key Personnel (10 Points)

The Director reviews each application to determine the quality of key personnel for all project activities, including consideration of: (a) The qualifications of the project director with regard to the creation of a Special Collection on the subject selected; (b) The qualifications of other key personnel with regard to the creation of a Special Collection on the subject selected; (c) The experience and training of key personnel in facilitating teams of advisors/reviewers and working in fields related to project objectives; (d) The roles of key personnel and the number of hours dedicated to carrying out their tasks; and (d) The applicant's policy, as part of its nondiscriminatory employment practices, to ensure that its personnel are selected for employment without regard to race, color, national origin, religion, gender, age, or disability. (See http://ocfo.ed.gov/grntinfo/gposbul/gpos15.htm for additional information on Key Personnel.)

Additional Application Requirements

The application shall include the following:

Project Summary

The proposal must contain a 200-word summary of the proposed project suitable for publication. It shall not be an abstract of the proposal, but rather a self-contained description of the activities that would explain the proposal. The summary should be free of jargon and technical terminology, and should be understandable by a non-specialist reader.

Budget Proposal

ED Form 524 must be completed and submitted with each application. The form consists of Sections A, B, and C. On the back of the form are general instructions for completion of the budget. All applicants must complete Sections A and C. If Section B is completed, include the nature and source of non-federal funds. Attach to Section C a detailed explanation and amplification of each budget category. Included in the explanation should be complete justification of costs in each category. Additional instructions include:

• Prepare an itemized budget narrative for the project as a whole.

• Personnel items should include names (titles or position) of key staff, number of hours proposed and applicable hourly rates.

• Include the cost, purpose, and justification for travel, equipment, supplies, contractual and other. Training stipends are not authorized under this program.

• Clearly identify in all instances contributed costs and support from other sources, if any.

• Show budget detail for financial aspects of any cost-sharing, joint or cooperative funding.

Disclosure of Prior NIFL Support

If any partner has received NIFL funding in the past 2 years, the following information on the prior awards is required.

• NIFL award number, amount and period of support;

• A summary of the results of the completed work; and

• A brief description of available materials and other related research products not described elsewhere.

If the applicant has received a prior award, the reviewers will be asked to comment on the quality of the prior work described in this section of the proposal.

Reporting

In addition to working closely with the National Institute for Literacy, the applicant will be required to submit Quarterly Performance reports, which are to be brief, 3-4 page reports of progress; a final annual report of activities replaces the 4th quarterly report. Due: Within 30 days at the end of each quarter. Detailed specifications for the reports will be provided within three months after the awards are made.

Instructions for Transmittal of Applications

(a) To apply for a Content Development Partner grant—

(1) Mail the original and seven (7) copies of the application on or before the deadline date of July 15, 2000 to National Institute for Literacy, 1775 I Street, NW, Suite 730, Washington, DC 20006, Attention: William B. Hawk (CFDA #257S).

(2) Hand deliver the application by 4:30 p.m. (Washington, DC time) on the deadline date to the address above.

(b) An applicant must show one of the following as proof of mailing:

(1) A legibly dated U.S. Postal Service postmark.

(2) A legible mail receipt with the date of mailing stamped by the U.S. Postal Service.

(3) A dated shipping label, invoice, or receipt from a commercial carrier.

(c) If an application is mailed through the U.S. Postal Service, the Director does not accept either of the following as proof of mailing:

(1) A private metered postmark.

(2) A mail receipt that is not dated by the U.S. Postal Service.

Notes:

(1) The U.S. Postal Service does not uniformly provide a dated postmark. Before relying on this method, an applicant should check with the local post office.

(2) The NIFL will mail a Grant Applicant Receipt Acknowledgment to each applicant. If an applicant fails to receive the notification of application receipt within 15 days from the date of mailing the application, the applicant should call the NIFL at (202) 233-2055.

(3) The applicant must indicate on the envelope and in Item 10 of the application for Federal Assistance (Standard Form 424) the CFDA number of the competition under which the application is being submitted.

Electronic Access to This Document

You may view this document, as well as National Institute for Literacy documents published in the Federal Register, in text or Adobe Portable Document Format (PDF) on the Web from the following sites:

http://www.nifl.gov/nifl/news_events.html

http://www.nifl.gov/lincs/2000_rfp.html

To view the PDF version, you must have the Adobe Acrobat Reader Program.

Note: The official version of this document is the document published in the Federal Register. Free Internet access to the official edition of the Federal Register and the Code of Federal Regulations is available on GPO Access at http://www.access.gpo.gov/nara/index.html

Application Instructions and Forms

The appendix to this application is divided into three parts plus a statement regarding estimated public reporting burden and various assurances and certifications. These parts and additional materials are organized in the same manner that the submitted application should be organized. The parts and additional materials follow. (Additional forms for the completion of this application are available from http://ocfo.ed.gov/grnt/appforms.htm.)

Part I: Application for Federal Assistance

(Standard Form 424 (Rev. 4-94)) and instructions.

Part II. Budget Information

Non-Construction Programs (ED Form 524) and instructions.

Part III: Application Narrative

Additional Materials: Estimated Public Reporting Burden.

Assurances-Non—Construction Programs (Standard Form 424B).

Certification Regarding Lobbying; Debarment, Suspension, and Other Responsibility Matters; and Drug-Free Workplace Requirements (ED 80-0013).

Certification Regarding Debarment, Suspension, Ineligibility and Voluntary Exclusion: Lower Tier Covered Transactions (ED 80-0014, 9/90) and instructions.

Note: ED 80-0014 is intended for the use of recipients and should not be transmitted to the NIFL.

Disclosure of Lobbying Activities (Standard Form LLL) (if applicable) and instructions. An applicant may submit information on a Photostat copy of the application and budget forms, the assurances and the certifications. However, the application form, the assurances, and certifications must each have an original signature. No award can be made unless a complete application has been received.

Instructions for Estimated Public Reporting Burden

According to the Paperwork Reduction Act of 1995, no persons are required to respond to a collection of information unless it displays a valid OMB control number. The valid OMB control number for this information is under OMB control number 3430-0006, Expiration date: 06/30/2003. The time required to complete this information collection is 40 hours per response, including the time for reviewing instructions, searching existing data sources, gathering and disseminating the data needed, and completing and reviewing the collection of information. If you have any comments concerning the accuracy of the time estimate or suggestions for improving this form, please write to: the National Institute for Literacy 1775 I Street, NW., Suite 730, Washington, DC 20006.

Dated: June 5, 2000.
Andrew J. Hartman,
Director, NIFL.

[FR Doc. 00-14547 Filed 6-8-00; 8:45 am]

BILLING CODE 6055-01-U